DEPARTMENT OF THE TREASURY

Internal Revenue Service

26 CFR Parts 53 and 301

[TD 8920]

RIN 1545-AY64

Excise Taxes on Excess Benefit Transactions; Correction

AGENCY: Internal Revenue Service (IRS), Treasury.

ACTION: Correction to temporary regulations.

SUMMARY: This document contains corrections to temporary regulations that were published in the Federal Register on January 10, 2001 (66 FR 2144). This document relates to the excise taxes on excess benefit transactions under section 4958 of the Internal Revenue Code.

DATES: This correction is effective January 10, 2001.

FOR FURTHER INFORMATION CONTACT: Phyllis D. Haney (202) 622-4290 (not a toll-free number).

SUPPLEMENTARY INFORMATION:

Background

These temporary regulations that are the subject of this correction are under section 4958 of the Internal Revenue Code.

Need for Correction

As published, these temporary regulations (TD 8920) contain errors that may prove to be misleading and are in need of clarification.

Correction of Publication

Accordingly, the publication of the temporary regulations (TD 8920), which were the subject of FR Doc. 01-256, is corrected as follows:

§ 53.4958-4T [Corrected]

1. On page 2164, column 3, § 53.4958-4T, paragraph (a)(3)(vii), Example 1, line 12, the language “T (see § 53.4958-3T(a)). Under the initial” is corrected to read “T (see § 53.4958-3T (c)(3)). Under the initial”.

2. On page 2165, column 1, § 53.4958-4T, paragraph (a)(3)(vii), Example 6, line 19, the language “respect to B, Company X also becomes a” is corrected to read “respect to Hospital B, Company X also becomes a”.

3. On page 2165, column 1, § 53.4958-4T, paragraph (a)(3)(vii), Example 6, line 20, the language “disqualified person with respect to B (see” is corrected to read “disqualified person with respect to Hospital B (see”.

4. On page 2167, column 2, § 53.4958-4T, paragraph (c)(3)(i)(B), last line in the paragraph, the language “paragraph (b)(3)(i)(A) of this section.” is corrected to read “paragraph (c)(3)(i)(A) of this section.”.

§ 53.4958-6T [Corrected]

5. On page 2168, column 1, § 53.4958-6T, paragraph (a)(1), first line in the column, the language “the organization with the meaning of” is corrected to read “the organization within the meaning of”.

6. On page 2169, column 1, § 53.4958-6T, paragraph (c)(2)(iv), Example 2, line 1, the language “Example 2. The facts are the same as” is corrected to read “Example 2. The facts are the same as in”.

7. On page 2169, column 1, § 53.4958-6T, paragraph (c)(2)(iv), Example 4, line 1, the language “Example 4. The facts are the same as” is corrected to read “Example 4. The facts are the same as in”.

§ 301.7611-1 [Corrected]

8. On page 2171, column 3, § 301.7611-1, under the undesignated centerheading “Application to Section 4958”, A-19, line 1, the language “A-19: See § 53.4958-7(b) of this” is corrected to read “A-19: See § 53.4958-8T(b) of this”.

Cynthia E. Grigsby,
Chief, Regulations Unit, Office of Special Counsel (Modernization and Strategic Planning).

[FR Doc. 01-5006 Filed 3-1-01; 8:45 am]

BILLING CODE 4830-01-P